DEPARTMENT OF AGRICULTURE

Animal and Plant Health Inspection Service

7 CFR Part 354

[Docket No. APHIS-2009-0055]

Commuted Traveltime

AGENCY: Animal and Plant Health Inspection Service, USDA.

ACTION: Final rule.

SUMMARY: We are amending the regulations concerning overtime services provided by employees of the Agency's Plant Protection and Quarantine (PPQ) program by adding or amending commuted traveltime allowances for travel between certain locations in the District of Columbia, Florida, Illinois, and Minnesota. Commuted traveltime allowances are the periods of time required for PPQ employees to travel from their dispatch points and return there from the places where they perform Sunday, holiday, or other overtime duty. The Government charges a fee for certain overtime services provided by PPQ employees and, under certain circumstances, the fee may include the cost of commuted traveltime. This action is necessary to inform the public of commuted traveltime for these locations.

DATES: Effective Date: September 28, 2009.

FOR FURTHER INFORMATION CONTACT: Ms. Terri Burrell, Director, Resource Management Staff, PPQ, APHIS, 4700 River Road Unit 120, Riverdale, MD 20737-1238; (301) 734-5575.

SUPPLEMENTARY INFORMATION:

Background

The regulations in 7 CFR, chapter III, require inspection, certification, or quarantine of certain plants, plant products, or other commodities intended for importation into, or exportation from, the United States.

When these services must be provided by an employee of the Animal and Plant Health Inspection Service (APHIS) on a Sunday or holiday, or at any other time outside the employee's regular duty hours, the Government charges a fee for the services in accordance with 7 CFR part 354 for services provided by an employee of APHIS' Plant Protection and Quarantine (PPQ) program. Under circumstances described in 7 CFR 354.1(a)(2), this fee may include the cost of commuted traveltime. The regulations in 7 CFR 354.2 contain administrative instructions prescribing commuted traveltime allowances, which reflect, as nearly as practicable, the periods of time required for PPQ employees to travel from their dispatch points and return there from the places where they perform Sunday, holiday, or other overtime duty.

We are amending 7 CFR 354.2 by adding or adjusting commuted traveltime allowances for travel between certain locations in the District of Columbia, Florida, Illinois, and Minnesota. The new allowances are set forth in the regulatory text at the end of this document. This action is necessary to inform the public of the commuted traveltime between the dispatch and service locations.

Effective Date

The commuted traveltime allowances appropriate for employees performing services at ports of entry, and the features of the reimbursement plan for recovering the cost of furnishing port of entry services, depend upon facts within the knowledge of the Department of Agriculture. It does not appear that public participation in this rulemaking would make additional relevant information available to the Department.

Accordingly, pursuant to the administrative procedure provisions in 5 U.S.C. 553, we find upon good cause that prior notice and other public procedure with respect to this rule are impracticable and unnecessary; we also find good cause for making this rule effective less than 30 days after publication of this document in the Federal Register.

Executive Order 12866 and Regulatory Flexibility Act

This rule has been reviewed under Executive Order 12866. For this action, the Office of Management and Budget has waived its review under Executive Order 12866.

The number of requests for overtime services of a PPQ employee at the locations affected by this rule represents an insignificant portion of the total number of requests for these services in the United States.

Under these circumstances, the Administrator of the Animal and Plant Health Inspection Service has determined that this action will not have a significant economic impact on a substantial number of small entities.

Executive Order 12988

This final rule has been reviewed under Executive Order 12988, Civil Justice Reform. This rule is not intended to have retroactive effect. There are no administrative procedures that must be exhausted prior to any judicial challenge to the provisions of this rule or the application of its provisions.

Paperwork Reduction Act

This final rule contains no new information collection or recordkeeping requirements under the Paperwork Reduction Act of 1995 (44 U.S.C. 3501 et seq.).

List of Subjects in 7 CFR Part 354

Animal diseases, Exports, Government employees, Imports, Plant diseases and pests, Quarantine, Reporting and recordkeeping requirements, Travel and transportation expenses.

Accordingly, we are amending 7 CFR part 354 as follows:

PART 354—OVERTIME SERVICES RELATING TO IMPORTS AND EXPORTS; AND USER FEES

1. The authority citation for part 354 continues to read as follows:

Authority: 7 U.S.C. 7701-7772, 7781-7786, and 8301-8317; 21 U.S.C. 136 and 136a; 49 U.S.C. 80503; 7 CFR 2.22, 2.80, and 371.3.

2. In § 354.2, the table is amended as follows:

a. Under the District of Columbia, Florida, and Illinois, by adding, in alphabetical order, new entries to read as set forth below.

b. Under Minnesota, in the first entry for Duluth, by removing under Metropolitan area, the number “1” and adding the number “2” in its place.

c. Under Minnesota, by removing the entry for Silver Bay.

§ 354.2 Administrative instructions prescribing commuted traveltime.

* * * * *

Commuted Traveltime Allowances
[In hours]
Location covered | Served from— | Metropolitan area: Within | Metropolitan area: Outside
* * * * * * *
District of Columbia:
* * * * * * *
Washington, DC Metropolitan area (including Arlington and Alexandria, VA; Andrews AFB, MD; and Washington Navy Yard) | Baltimore, MD | 2
Florida:
* * * * * * *
Panama City | Mobile, AL | 7
* * * * * * *
Illinois:
* * * * * * *
Undesignated ports |  | 3
* * * * * * *

Done in Washington, DC, this 22nd day of September 2009.
Kevin Shea,
Acting Administrator, Animal and Plant Health Inspection Service.

[FR Doc. E9-23327 Filed 9-25-09; 8:45 am]

BILLING CODE 3410-34-P